DEPARTMENT OF ENERGY

Federal Energy Regulatory Commission

[Project No. 9842-006]

Mr. Ray F. Ward; Notice Of Availability Of Draft Environmental Assessment

In accordance with the National Environmental Policy Act of 1969 and the Federal Energy Regulatory Commission's (Commission) regulations, 18 CFR part 380 (Order No. 486, 52 FR 47879), the Office of Energy Projects has reviewed the application for a new license for the Ward Mill Hydroelectric Project, located on the Watauga River near Boone, Watauga County, North Carolina, and has prepared a draft Environmental Assessment (draft EA) for the project. The project would not occupy federal land.

In the draft EA, Commission staff analyze the potential environmental effects of relicensing the project and conclude that continued project operation under a new license, with appropriate measures, would not constitute a major federal action significantly affecting the quality of the human environment.

A copy of the draft EA is available for review at the Commission in the Public Reference Room or may be viewed on the Commission's Web site at www.ferc.gov using the “eLibrary” link. Enter the docket number, excluding the last three digits, in the docket number field to access the document. For assistance, contact FERC Online Support at FERCOnlineSupport@ferc.gov or toll-free number at 1-866-208-3676, or for TTY, 202-502-8659.

You may also register online at www.ferc.gov/docs-filing/esubscription.asp to be notified via email of new filings and issuances related to this or other pending projects. For assistance, contact FERC Online Support.

For further information, please contact Adam Peer by telephone at (202) 502-8449 or by email at Adam.Peer@ferc.gov.

Dated: July 18, 2016.
Kimberly D. Bose,
Secretary.

[FR Doc. 2016-17520 Filed 7-25-16; 8:45 am]

BILLING CODE 6717-01-P